DEPARTMENT OF EDUCATION

Privacy Act of 1974; Computer Matching Program; Notice

AGENCY: Department of Education.

ACTION: Notice of Renewal of the Computer Matching Program between the U.S. Department of Education and the Internal Revenue Service, U.S. Department of The Treasury.

SUMMARY: Pursuant to the Privacy Act of 1974 (5 U.S.C. 552a), as amended by the Computer Matching and Privacy Protection Act of 1988 (Pub. L. 100-503), and the Office of Management and Budget (OMB) Final Guidance Interpreting the Provisions of Public Law 100-503, the Computer Matching Privacy Protection Act of 1988 (54 FR 25818, June 16, 1989), this document provides notice of the renewal of the computer matching program between the U.S. Department of Education (ED) (the recipient agency), and the U.S. Internal Revenue Service (IRS), Department of Treasury (the source agency). The computer matching program will begin on the effective date as specified in the computer matching agreement and in paragraph 5 of this notice.

Notice of the matching program between ED and IRS was originally published in the Federal Register on August 18, 2003 (68 FR 49456). The computer matching program became effective for a period of 18 months on February 18, 2003. On August 18, 2005, IRS and ED extended the computer matching program for an additional 12 months. Unless renewed, the computer matching program will expire on August 17, 2006.

In accordance with the Privacy Act of 1974, as amended (5 U.S.C. 552a), OMB Final Guidance Interpreting the Provisions of Public Law 100-503, the Computer Matching and Privacy Protection Act of 1988 (54 FR 25818, June 16, 1989), and OMB Circular No. A-130, Appendix I (65 FR 77677, December 12, 2000), the following information is provided:

1. Name of Participating Agencies

The U.S. Department of Education and the Internal Revenue Service of the U.S. Department of Treasury.

2. Purpose of the Match

The purpose of this matching program, entitled Taxpayer Address Request (TAR), is to permit ED to have access to the mailing address of any taxpayer who owes an overpayment of a grant awarded to the taxpayer under subpart 1 of part A of Title IV of the Higher Education Act of 1965, as amended, (HEA), or who has defaulted on a loan made under part B, D, or E of Title IV of the HEA or made pursuant to section 3(a)(1) of the Migration and Refugee Assistance Act of 1962 to a student at an institution of higher education, for the purposes of locating the taxpayer to collect grant overpayment or loan debt.

In accordance with section 6103(m)(4)(B) of the of Internal Revenue Code (IRC) (26 U.S.C. 6103(m)(4)(B)), the computer matching agreement between ED and IRS provides for redisclosure by the Secretary of Education of a taxpayer's mailing address to any lender, or State or nonprofit guarantee agency, which is participating under part B or D of Title IV of the HEA, or any educational institution with which the Secretary of Education has an agreement under subpart 1 of part A, or part D or E, of Title IV of the HEA.

3. Authority for Conducting the Matching Program

The information contained in the IRS database is referred to as the TAR, and the matching program between ED and IRS is authorized under section 6103(m)(2) and (m)(4) of the IRC (26 U.S.C. 6103(m)(2) and (m)(4)).

4. Categories of Records and Individuals Covered by the Match

The records to be used in the match are described as follows:

ED will provide the Social Security Number (SSN) and first four letters of the last name of each student who has defaulted under a loan program authorized under part B, D, or E of Title IV of the HEA or made pursuant to section 3(a)(1) of the Migration and Refugee Assistance Act of 1962 to a student at an institution of higher education, or who owes a grant overpayment authorized under subpart 1 of part A of Title IV of the HEA. This information will be extracted from ED's Student Financial Assistance Collection system of records (18-11-07) (64 FR 30166 (June 4, 1999), as amended by 64 FR 72407 (December 27, 1999)).

Note: On January 23, 2006, ED published a notice of a new system of records entitled the Common Services for Borrowers (CSB) system (18-11-16) (71 FR 3503), which, once it is fully phased in, will replace, and will include the records now maintained in, ED's Student Financial Assistance Collection Files system of records.

The ED data described in the preceding paragraph will be matched against the IRS' system of records, CADE Individual Master File (IMF), Treasury/IRS 24.030 (66 FR 63783, 63800 (December 10, 2001)) in order to collect the most recent address of each taxpayer who matches the SSN and first four letters of the last name as provided by ED.

5. Effective Dates of the Matching Program

The matching program will become effective at the latest of the following dates: (1) 40 days after the signing of the transmittal letter sending the computer matching program report to Congress and the OMB, unless OMB disapproves the matching program within the 40-day review period or if OMB waives 10 days of the 40-day review period, then 30 days after the signing of the transmittal letter sending the computer matching program report to Congress and OMB; (2) 30 days after publication of this notice in the Federal Register; or, (3) August 18, 2006, the day after the expiration of the current computer matching agreement. The matching program will continue for 18 months after the effective date and may be extended for an additional 12 months, if the conditions specified in 5 U.S.C. 552a(o)(2)(D) have been met.

6. Address for Receipt of Public Comments or Inquiries

Individuals wishing to comment on this matching program or obtain additional information about the program, including requesting a copy of the computer matching agreement between ED and IRS, may contact Marian Currie, Management and Program Analyst, Federal Student Aid, U.S. Department of Education, 830 First Street, NE., Union Center Plaza, room #41B4, Washington, DC 20202-5320. Telephone: 202-377-3212; and as a secondary contact, Shirley Wheeler, Director, Collections Management, Federal Student Aid, U.S. Department of Education, 830 First Street, NE., Union Center Plaza, room #41F1, Washington, DC 20202-5320. Telephone: (202) 377-3294. If you use a telecommunications device for the deaf (TTD), you may call the Federal Relay Service (FRS) at 1-800-877-8339.

Individuals with disabilities may obtain this document in an alternative format (e.g., Braille, large print, audiotape, or computer diskette) on request to either contact person listed in the previous paragraph.

Electronic Access to This Document

You may view this document, as well as all other documents of this Department published in the Federal Register, in text or Adobe portable document format (PDF) on the following site: http://www.ed.gov/news/fedregister/index.html.

To use PDF you must have Adobe Acrobat Reader Program, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Authority: 5 U.S.C. 552a; Pub. L. 100-503; 26 U.S.C. 6103(m)(2) and (m)(4).

Dated: July 25, 2006.
Theresa S. Shaw,
Chief Operating Officer, Federal Student Aid.

[FR Doc. E6-12131 Filed 7-27-06; 8:45 am]

BILLING CODE 4000-01-P